DEPARTMENT OF DEFENSE

Office of the Secretary

[Docket ID: DoD-2024-OS-0084]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 23, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing.

Follow the instructions at http://www.regulations.gov for submitting comments. Please submit comments on any given form identified by docket number, form number, and title.

FOR FURTHER INFORMATION CONTACT: To request more information on this proposed information collection or to obtain a copy of the proposal and associated collection instruments, please write to the Federal Voting Assistance Program ATTN: Mr. J. Scott Wiedmann, 4800 Mark Center Drive, Suite 03J25 Alexandria, VA 22350, (571) 372-0740.

SUPPLEMENTARY INFORMATION:

Title; Associated Form; and OMB Number: Overseas Citizen Population Survey; OMB Control Number 0704-0539.

Needs and Uses: The information collection requirement is necessary for the Federal Voting Assistance Program (FVAP), an agency of the DoD, to fulfill the mandate of the Uniformed and Overseas Citizens Absentee Voting Act (UOCAVA of 1986 [52 U.S.C. 10301]). UOCAVA requires a statistical analysis report to the President and Congress on the effectiveness of assistance under the Act, a statistical analysis of voter participation, and a description of State/Federal cooperation. The data obtained through this study will allow FVAP to refine its methodology for estimating the number of overseas U.S. civilians who are eligible to vote and who have registered and participated in the past, and using these estimates to address the question of whether the registration and voting propensity of the overseas civilian population differs from that of a comparable domestic or military population. Conducting this research will help FVAP meet its Federal and congressional mandates in terms of reporting annually on its activities and on overall voter registration and participation rates after each Presidential election. The data obtained through this study is also intended to provide insights into existing barriers to UOCAVA voting and recommendations for addressing these challenges.

Affected Public: Individuals or households.

Annual Burden Hours: 4,500.

Number of Respondents: 18,000.

Responses per Responent: 1.

Annual Responses: 18,000.

Average Burden per Response: 15 Minutes.

Frequency: On Occasion.

The UOCAVA requires the States to allow Uniformed Services personnel, their family members, and overseas citizens to use absentee registration procedures and to vote by absentee ballot in general, special, primary, and runoff elections for Federal offices. The Act covers members of the Uniformed Services and the merchant marine to include the commissioned corps of the National Oceanic and Atmospheric Administration and Public Health Service and their eligible dependents, Federal civilian employees overseas, and overseas U.S. citizens not affiliated with the Federal Government. After each Presidential election year, FVAP must report voter registration and participation rates for uniformed service voters and overseas citizens to Congress; while FVAP collects data for this report through regular surveys of uniformed service voters and other relevant UOCAVA populations, it does not currently collect data from non-military, non-government overseas civilians. Previous attempts to collect information on the overseas citizen's population to identify and measure its voter registration and participation rates in Federal elections suffered from significant bias; the Overseas Citizens Population Survey is focused on refining a prototype method to report voter registration and participation rates from a more well-defined subgroup of overseas civilians.

Dated: July 18, 2024.
Aaron T. Siegel,
Alternate OSD Federal Register Liaison Officer, Department of Defense.

[FR Doc. 2024-16139 Filed 7-22-24; 8:45 am]

BILLING CODE 6001-FR-P